FEDERAL COMMUNICATIONS COMMISSION

[PS Docket No. 16-269]

Procedures for Commission Review of State Opt-Out Request From the FirstNet Radio Access Network

AGENCY: Federal Communications Commission.

ACTION: Notice.

SUMMARY: By this document, the Public Safety and Homeland Security Bureau (Bureau) issues a Public Notice establishing an expedited comment period to allow public comment on two ex parte filings and any related filings submitted by the First Responder Network Authority (FirstNet).

DATES: Comments are due July 17, 2017.

FOR FURTHER INFORMATION CONTACT: Roberto Mussenden, Policy and Licensing Division, Public Safety and Homeland Security Bureau, (202) 418-1428.

SUPPLEMENTARY INFORMATION: This is a summary of the Commission's Public Notice in PS Docket No. 16-269, DA 17-625, released on June 28, 2017. In a June 5, 2017 ex parte filing, FirstNet filed a spreadsheet listing “FCC Evaluation Requirements” associated with specific elements of the anticipated state plan categories, stating that the spreadsheet represents an “interoperability compliance matrix that documents the technical standards that will be necessary to ensure a state or territory's RAN is interoperable with the [National Public Safety Broadband Network] NPSBN.” On June 16, 2017, FirstNet filed an additional ex parte letter reporting on a June 14 meeting with Bureau staff, in which it proffers a revised interoperability compliance matrix. In the revised matrix, FirstNet proposes that the Commission's review under the second statutory prong be limited to whether alternative state plans comply with recommended requirements [4] and [5] from the Interoperability Board Report. (Recommended requirement [4] states that hardware and software systems comprising the NPSBN SHALL support APNs defined for PSAN usage. Recommended requirement [5] states that hardware and software systems comprising the NPSBN SHALL support nationwide APNs for interoperability.) The Public Notice seeks comment on whether the Commission should incorporate these policies when evaluating state compliance with the NPSBN.

The document is available for download at http://fjallfoss.fcc.gov/edocs_public/. The complete text of this document is also available for inspection and copying during normal business hours in the FCC Reference Information Center, Portals II, 445 12th Street SW., Room CY-A257, Washington, DC 20554. To request materials in accessible formats for people with disabilities (Braille, large print, electronic files, audio format), send an email to FCC504@fcc.gov or call the Consumer & Governmental Affairs Bureau at 202-418-0530 (voice), 202-418-0432 (TTY).

Federal Communications Commission.
Marlene H. Dortch,
Secretary.

[FR Doc. 2017-14216 Filed 7-6-17; 8:45 am]

BILLING CODE 6712-01-P